DEPARTMENT OF COMMERCE

National Oceanic and Atmospheric Administration

[I.D. 041700C]

Bluefin Tuna Statistical Documents

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 20, 2000.

ADDRESSES: Direct all written comments to Linda Engelmeier, Departmental Forms Clearance Officer, Department of Commerce, Room 5027, 14th and Constitution Avenue NW, Washington DC 20230 (or via Internet at lengelme@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910 (301-713-2347).

SUPPLEMENTARY INFORMATION:

I. Abstract

Under the provisions of the Magnuson-Stevens Fishery Conservation and Management Act (16 U.S.C. 1801 et seq.), NOAA is responsible for management of the nation's marine fisheries. In addition, NOAA must comply with the United States' obligations under the Atlantic Tunas Convention Act of 1975 (16 U.S.C. 971 et seq.) to implement recommendations by the International Commission for the Conservation of Atlantic Tunas (ICCAT). In order to monitor landings and trade in bluefin tuna, the National Marine Fisheries Service (NMFS) collects information through the bluefin tuna statistical document (BSD) program recommended by ICCAT. BSDs are required for lawful import of bluefin tuna products into countries that are contracting parties to ICCAT. By exchanging information collected through the BSD program, ICCAT members can monitor catch of Atlantic bluefin tuna in relation to applicable country quotas for contracting parties and assess the extent to which catch by non-contracting parties could undermine the effectiveness of ICCAT's stock rebuilding program for Atlantic bluefin tuna.

II. Method of Collection

Importers and commercial fish dealers who import or export bluefin tuna are required to obtain a tuna dealer permit from NMFS (approved under a separate collection: 0648-0202). Permitted dealers must obtain original BSDs from import shipments, complete the importer certification section and mail or fax the completed BSD to NMFS. Exporters must obtain numbered, non-transferable BSDs from NMFS, complete the landings information and exporter certification sections, mail or fax a copy of the completed BSD to NMFS, and attach the original BSD to the export shipment. In certain cases, the landings and export information must be validated by a government official or an accredited non-government institution. For the most part, U.S. catches of bluefin tuna are tagged upon landing (approved under a separate collection: 0648-0239) and such tagged bluefin are exempt from the BSD validation requirement. In order for a non-governmental institution to be accredited to provide validations it must submit a request for such authority.

III. Data

OMB Number: 0648-0040.

Form Number: None.

Type of Review: Regular submission.

Affected public: Businesses and other for-profit institutions.

Estimated Number of Respondents: 50.

Estimated Time Per Response: An average of 20 minutes for completing a BSD upon import, export or re-export of bluefin tuna into or from the United States (range of 5 minutes for BSDs listing tagged fish to 2 hours for BSDs requiring validation); 2 hours for a request for accreditation from a non-governmental institution.

Estimated Total Annual Burden Hours: 500.

Estimated Total Annual Cost to Public: $500.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 13, 2000.
Linda Engelmeier,
Departmental Forms Clearance Officer, Office of Chief Information Officer.

[FR Doc. 00-10025 Filed 4-20-00; 8:45 am]

BILLING CODE 3510-22-F